DEPARTMENT OF ENERGY

Federal Energy Regulatory Commission

Combined Notice of Filings #1

Take notice that the Commission received the following electric rate filings:

Docket Numbers: ER11-2489-005; ER12-726-004; ER12-2639-003; ER11-3620-007; ER11-2882-008; ER10-2432-007; ER10-2435-007; ER10-2440-007; ER10-2442-007; ER10-2444-007; ER10-2446-007; ER10-2449-007; ER12-1431-005; ER12-1434-005; ER12-1432-005; ER12-1435-005; ER13-2102-003; ER12-2510-004; ER12-2511-004; ER12-2512-004; ER12-2513-004; ER13-2308-002; ER14-1439-002; ER14-1656-004; ER15-1019-001; ER10-2628-002 ; ER11-3959-004.

Applicants: Hatchet Ridge Wind, LLC, Spring Valley Wind LLC, Ocotillo Express LLC, Lyonsdale Biomass, LLC, ReEnergy Sterling CT Limited Partnership, Bayonne Plant Holding, L.L.C., Camden Plant Holding, L.L.C., Dartmouth Power Associates Limited Partnership, Elmwood Park Power, LLC, Newark Bay Cogeneration Partnership, L.P, Pedricktown Cogeneration Company LP, York Generation Company LLC, ReEnergy Ashland LLC, ReEnergy Fort Fairfield LLC, ReEnergy Livermore Falls LLC, ReEnergy Stratton LLC, ReEnergy Black River LLC, Brandon Shores LLC, C.P. Crane LLC, H.A. Wagner LLC, Raven Power Marketing LLC, Sapphire Power Marketing LLC, TrailStone Power, LLC, CSOLAR IV West, LLC, Fowler Ridge IV Wind Farm LLC, Lost Creek Wind, LLC, Post Rock Wind Power Project, LLC.

Description: Notification of Non-Material Change in Status of the Riverstone MBR Entities.

Filed Date: 6/15/15.

Accession Number: 20150615-5351.

Comments Due: 5 p.m. ET 7/6/15.

Docket Numbers: ER13-120-006.

Applicants: Cheyenne Light, Fuel and Power Company.

Description: Compliance filing per 35: Order No. 1000 OATT Fourth Regional Compliance Filing to be effective 1/1/2015.

Filed Date: 6/15/15.

Accession Number: 20150615-5252.

Comments Due: 5 p.m. ET 7/6/15.

Docket Numbers: ER13-75-009.

Applicants: Public Service Company of Colorado.

Description: Compliance filing per 35: 2015-6-15_PSCo Order 1000-4th Reg Comp Filing to be effective 1/1/2015.

Filed Date: 6/15/15.

Accession Number: 20150615-5166.

Comments Due: 5 p.m. ET 7/6/15.

Docket Numbers: ER13-77-007.

Applicants: Tucson Electric Power Company.

Description: Compliance filing per 35: OATT Order No. 1000 Compliance Filing to be effective 1/1/2015.

Filed Date: 6/15/15.

Accession Number: 20150615-5180.

Comments Due: 5 p.m. ET 7/6/15.

Docket Numbers: ER13-78-007.

Applicants: UNS Electric, Inc.

Description: Compliance filing per 35: OATT Order No. 1000 Compliance Filing to be effective 1/1/2015.

Filed Date: 6/15/15.

Accession Number: 20150615-5187.

Comments Due: 5 p.m. ET 7/6/15.

Docket Numbers: ER13-79-007.

Applicants: Public Service Company of New Mexico.

Description: Compliance filing per 35: Order No. 1000 OATT Fourth Regional Compliance Filing to be effective 1/1/2015.

Filed Date: 6/15/15.

Accession Number: 20150615-5087.

Comments Due: 5 p.m. ET 7/6/15.

Docket Numbers: ER13-82-007.

Applicants: Arizona Public Service Company.

Description: Compliance filing per 35: OATT Order No. 1000 Compliance Filing to be effective 1/1/2015.

Filed Date: 6/15/15.

Accession Number: 20150615-5200.

Comments Due: 5 p.m. ET 7/6/15.

Docket Numbers: ER13-836-004.

Applicants: MATL LLP.

Description: Compliance filing per 35: Order 1000 Compliance Filing to be effective 6/16/2015.

Filed Date: 6/15/15.

Accession Number: 20150615-5248.

Comments Due: 5 p.m. ET 7/6/15.

Docket Numbers: ER13-91-006.

Applicants: El Paso Electric Company.

Description: Compliance filing per 35: OATT Order No. 1000 Compliance Filing to Comply with May 14, 2015 Order to be effective 1/1/2015.

Filed Date: 6/15/15.

Accession Number: 20150615-5085.

Comments Due: 5 p.m. ET 7/6/15.

Docket Numbers: ER13-94-005.

Applicants: Avista Corporation.

Description: Compliance filing per 35: Avista Corp OATT Order 1000 Compliance Filing to be effective 6/16/2015.

Filed Date: 6/15/15.

Accession Number: 20150615-5239.

Comments Due: 5 p.m. ET 7/6/15.

Docket Numbers: ER13-96-006.

Applicants: Black Hills Power, Inc.

Description: Compliance filing per 35: Order No. 1000 OATT Fourth Regional Compliance Filing to be effective 1/1/2015.

Filed Date: 6/15/15.

Accession Number: 20150615-5249.

Comments Due: 5 p.m. ET 7/6/15.

Docket Numbers: ER13-97-006.

Applicants: Black Hills/Colorado Electric Utility Company, LP.

Description: Compliance filing per 35: Order No. 1000 OATT Fourth Regional Compliance Filing to be effective 1/1/2015.

Filed Date: 6/15/15.

Accession Number: 20150615-5251.

Comments Due: 5 p.m. ET 7/6/15.

Docket Numbers: ER13-99-005.

Applicants: Puget Sound Energy, Inc.

Description: Compliance filing per 35: OATT Order No. 1000 Compliance Filing to be effective 6/16/2015.

Filed Date: 6/15/15.

Accession Number: 20150615-5192.

Comments Due: 5 p.m. ET 7/6/15.

Docket Numbers: ER15-411-001.

Applicants: Arizona Public Service Company.

Description: Compliance filing per 35: Rate Schedule No. 274—WestConnect Planning Participation Agreement to be effective 1/1/2015.

Filed Date: 6/15/15.

Accession Number: 20150615-5201.

Comments Due: 5 p.m. ET 7/6/15.

Docket Numbers: ER15-422-001.

Applicants: Avista Corporation.

Description: Compliance filing per 35: Avista Corp Order 1000 FERC Rate Schedule No. CG2 Compliance Filing to be effective 6/16/2015.

Filed Date: 6/15/15.

Accession Number: 20150615-5247.

Comments Due: 5 p.m. ET 7/6/15.

Docket Numbers: ER15-428-002.

Applicants: Nevada Power Company.

Description: Compliance filing per 35: OATT Order No. 1000 Compliance Attachment K to be effective 1/1/2015.

Filed Date: 6/15/15.

Accession Number: 20150615-5207.

Comments Due: 5 p.m. ET 7/6/15.

Docket Numbers: ER15-429-001.

Applicants: Puget Sound Energy, Inc.

Description: Compliance filing per 35: Columbia Grid Functional Agreement Second Amendment to be effective 6/16/2015.

Filed Date: 6/15/15.

Accession Number: 20150615-5170.

Comments Due: 5 p.m. ET 7/6/15.

Docket Numbers: ER15-1190-002.

Applicants: Duke Energy Florida, Inc., Duke Energy Progress, Inc., Duke Energy Carolinas, LLC.

Description: Compliance filing per 35: OATT Attachment C-1 DEP Effective Date to be effective 6/10/2015.

Filed Date: 6/15/15.

Accession Number: 20150615-5263.

Comments Due: 5 p.m. ET 7/6/15.

Docket Numbers: ER15-1289-001.

Applicants: Midcontinent Independent System Operator, Inc.

Description: Compliance filing per 35: 2015-06-15_GRE RTO Adder Compliance to be effective 5/16/2015.

Filed Date: 6/15/15.

Accession Number: 20150615-5122.

Comments Due: 5 p.m. ET 7/6/15.

Docket Numbers: ER15-1293-001.

Applicants: Southwest Power Pool, Inc.

Description: Tariff Amendment per 35.17(b): Revisions to Att AE Sections 4.5.2 and 4.5.3 Deficiency Response in ER15-1293 to be effective 5/15/2015.

Filed Date: 6/15/15.

Accession Number: 20150615-5246.

Comments Due: 5 p.m. ET 7/6/15.

Docket Numbers: ER15-1427-001.

Applicants: Calpine New Jersey Generation, LLC.

Description: Tariff Amendment per 35.17(b): Response to Deficiency Letter to be effective 1/28/2015.

Filed Date: 6/15/15.

Accession Number: 20150615-5264.

Comments Due: 5 p.m. ET 7/6/15.

Docket Numbers: ER15-1916-000.

Applicants: Tucson Electric Power Company.

Description: § 205(d) rate filing per 35.13(a)(2)(iii): Concurrences to NPC Rate Schedules 95 and 96 to be effective 11/1/2014.

Filed Date: 6/15/15.

Accession Number: 20150615-5197.

Comments Due: 5 p.m. ET 7/6/15.

Docket Numbers: ER15-1917-000.

Applicants: PJM Interconnection, L.L.C.

Description: § 205(d) rate filing per 35.13(a)(2)(iii): Service Agreement No. 4173; Queue No. Z1-066 to be effective 5/14/2015.

Filed Date: 6/15/15.

Accession Number: 20150615-5253.

Comments Due: 5 p.m. ET 7/6/15.

Docket Numbers: ER15-1918-000.

Applicants: Southwest Power Pool, Inc.

Description: § 205(d) rate filing per 35.13(a)(2)(iii): Transmission Owner Selection Process Revisions to be effective 8/15/2015.

Filed Date: 6/15/15.

Accession Number: 20150615-5259.

Comments Due: 5 p.m. ET 7/6/15.

Docket Numbers: ER15-1919-000.

Applicants: California Independent System Operator Corporation.

Description: § 205(d) rate filing per 35.13(a)(2)(iii): 2015-06-15 EIM Year One Enhancements—Phase 1 to be effective 9/15/2015.

Filed Date: 6/15/15.

Accession Number: 20150615-5261.

Comments Due: 5 p.m. ET 7/6/15.

Docket Numbers: ER15-1922-000.

Applicants: Entergy Gulf States Louisiana, L.L.C., Entergy Louisiana, LLC, Entergy New Orleans, Inc.

Description: Request for Limited Waiver and Effective Date of Entergy Services, Inc. on behalf of the participating Entergy Operating Companies.

Filed Date: 6/15/15.

Accession Number: 20150615-5298.

Comments Due: 5 p.m. ET 7/6/15.

Docket Numbers: ER15-1923-000.

Applicants: PJM Interconnection, L.L.C.

Description: Notice of Cancellation of Interconnection Service Agreement of PJM Interconnection, L.L.C.

Filed Date: 6/15/15.

Accession Number: 20150615-5345.

Comments Due: 5 p.m. ET 7/6/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2015.
Kimberly D. Bose,
Secretary.

[FR Doc. 2015-15230 Filed 6-19-15; 8:45 am]

BILLING CODE 6717-01-P